DEPARTMENT OF THE TREASURY

Office of the Comptroller of the Currency

Federal Deposit Insurance Corporation

National Credit Union Administration

Agency Information Collection Activities: Proposed Information Collection; Comment Request

AGENCIES: Office of the Comptroller of the Currency, Treasury (OCC); Federal Deposit Insurance Corporation (FDIC); and National Credit Union Administration (NCUA).

ACTION: Notice and request for comment.

SUMMARY: The OCC FDIC, and NCUA (collectively, the “Agencies”), as part of continuing efforts to reduce paperwork and respondent burden, invite the general public and other Federal agencies to take this opportunity to comment on a new information collection. Under the Paperwork Reduction Act of 1995, an agency may not conduct or sponsor, and a respondent is not required to respond to, an information collection unless it displays a currently valid control number issued by the Office of Management and Budget. The Agencies are soliciting comment concerning a proposed collection method entitled “Interagency Appraisal Complaint Form.”

DATES: Comments must be received by December 21, 2012.

ADDRESSES: OCC: Communications Division, Office of the Comptroller of the Currency, Public Information Room, Mailstop 2-3, Attention: 1557-NEW, 250 E Street, SW., Washington, DC 20219. In addition, comments may be sent by fax to (202) 874-5274, or by electronic mail to regs.comments@occ.treas.gov. You may inspect and photocopy the comments at the OCC, 250 E Street, SW., Washington, DC 20219. You may make an appointment to inspect the comments by calling (202) 874-4700.

Additionally, you should send a copy of your comments to OCC Desk Officer, 1557-NEW, by mail to U.S. Office of Management and Budget, 725, 17th Street NW., #10235, Washington, DC 20503, or by fax to (202) 395-6974.

FDIC: You may submit comments by any of the following methods:

• Federal eRulemaking Portal: http://www.regulations.gov. Follow the instructions for submitting comments.

• Agency Web site: http://www.FDIC.gov/regulations/laws/federal/notices.html.

• Mail: Robert E. Feldman, Executive Secretary, Attention: Comments/Legal ESS, Federal Deposit Insurance Corporation, 550 17th Street NW., Washington, DC 20429.

• Hand Delivered/Courier: The guard station at the rear of the 550 17th Street Building (located on F Street), on business days between 7:00 a.m. and 5:00 p.m.

• Email: comments@FDIC.gov.

Instructions: Comments submitted must include “FDIC” and “Interagency Appraisal Complaint Form.” Comments received will be posted without change to http://www.FDIC.gov/regulations/laws/federal/notices.html, including any personal information provided.

NCUA: Interested parties are invited to submit written comments to both the NCUA PRA Contact and OMB Reviewer listed here:

• NCUA PRA Contact: Tracy Crews, National Credit Union Administration, 1775 Duke Street, Alexandria, Virginia 22314-3428, Fax No. 703-837-2861, or Email: OCIOmail@ncua.gov; and

• OMB Contact: Office of Management and Budget; ATTN: Desk Officer for NCUA; Office of Information and Regulatory Affairs, Washington, DC 20503

FOR FURTHER INFORMATION CONTACT: You may request additional information or a copy of the collection from:

OCC: Johnny Vilela or Mary H. Gottlieb, OCC Clearance Officers, (202) 874-5090, Legislative and Regulatory Activities Division, Office of the Comptroller of the Currency, 250 E Street SW., Washington, DC 20219.

FDIC: Beverlea S. Gardner, Senior Examination Specialist, Risk Management Section, at (202) 898-3640, Sumaya A. Muraywid, Examination Specialist, Risk Management Section, at (573) 875-6620, Richard Foley, Counsel, Legal Division, at (202) 898-3784, Mark Mellon, Counsel, Legal Division, at (202) 898-3884, or 550 17th St NW., Washington, DC 20429.

NCUA: Laura Todor, Consumer Affairs Officer, NCUA Office of Consumer Protection, 1775 Duke St., Alexandria, VA 22314, by phone at (703) 518-1149, or by email at ltodor@ncua.gov.

SUPPLEMENTARY INFORMATION: Under section 1473(p) of the Dodd-Frank Wall Street Reform and Consumer Protection Act (Dodd-Frank Act),¹ if the Appraisal Subcommittee (“ASC”), a subcommittee of the Federal Financial Institutions Examination Council (FFIEC), determines, six months after enactment of that secton (i.e., January 21, 2011) that no national hotline exists to receive complaints of non-compliance with appraisal independence standards and Uniform Standards of Professional Appraisal Practice, including complaints from appraisers, individuals, or other entities concerning the improper influencing or attempted improper influencing of appraisers or the appraisal process, then the ASC shall establish and operate such a hotline (“ASC Hotline”), which shall include a toll-free telephone number and an email address. Section 1473(p) further directs the ASC to refer complaints received through the ASC Hotline to the appropriate government bodies for further action, which may include referral to the Agencies. The ASC determined that a national appraisal hotline does not exist at a meeting held on January 12, 2011, and a notice of this determination was published in the Federal Register on January 28, 2011 (76 FR 5161). Currently, the ASC is in the process of establishing the ASC hotline, which will refer complaints to appropriate state and federal regulators.

¹ Dodd-Frank Wall Street Reform and Consumer Protection Act § 1473, Public Law 111-203, 124 Stat. 1376, July 21, 2010; 12 U.S.C. 3351(i)..

Representatives from the Agencies, the Federal Reserve Board, and the Bureau of Consumer Financial Protection have been meeting to establish a process to facilitate the referral of complaints received through the ASC Hotline to the appropriate federal financial institution regulatory agency or agencies. The Agencies and the Federal Reserve Board have developed the Interagency Appraisal Complaint Form to collect information necessary to take further action on the complaint. In preparing this notice, the Agencies have availed themselves of all means reasonably available to determine accurate estimates of the number of complaints it anticipates receiving as the result of the Interagency Appraisal Complaint Form.

Title: Interagency Appraisal Complaint Form.

OMB Number: New Collection.

Description: The Interagency Appraisal Complaint Form was developed for those who wish to file a formal, written complaint that an entity subject to the jurisdiction of one or more Agencies or the Federal Reserve Board has failed to comply with the appraisal independence standards or the Uniform Standards of Professional Appraisal Practice. The form is designed to collect information necessary for one or more Agencies or the Federal Reserve Board to take further action on a complaint from an appraiser, other individual, financial institution, or other entities. Each appropriate Agency or the Federal Reserve Board will use the information to take further action on the complaint to the extent it relates to an issue within its jurisdiction. The Federal Reserve Board will be seeking approval for the Interagency Complaint Form through a separate notice.

Type of Review: Regular.

Affected Public: Individuals; businesses or other for-profit entities.

Estimated Number of Respondents:

OCC: 1500 annually.

FDIC: 300 annually.

NCUA: 200 annually.

Estimated Burden per Response: 30 minutes.

Frequency of Response: On occasion.

Estimated Total Annual Burden:

OCC: 750 hours annually.

FDIC: 150 hours annually.

NCUA: 100 hours annually.

Comments submitted in response to this notice will be summarized, included in the request for OMB approval, and become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: October 5, 2012.
Michele Meyer,
Assistant Director, Legislative and Regulatory Activities Division, OCC.
Dated: September 20, 2012.
Valerie J. Best,
Assistant Executive Secretary, Federal Deposit Insurance Corporation.
Dated: October 4, 2012.
Mary Rupp,
Secretary of the Board, NCUA.

[FR Doc. 2012-25935 Filed 10-19-12; 8:45 am]

BILLING CODE P